DEPARTMENT OF ENERGY

Federal Energy Regulatory Commission

[Docket No. CP09-49-000]

Columbia Gas Transmission, LLC; Notice of Request Under Blanket Authorization

January 21, 2009.

Take notice that on January 15, 2009, Columbia Gas Transmission, LLC (Columbia), 1700 MacCorkle Avenue, SE., Charleston, West Virginia 25314, filed in Docket No. CP09-49-000, a prior notice request pursuant to sections 157.205, 157.208(b) and 157.216(b) of the Federal Energy Regulatory Commission's regulations under the Natural Gas Act, and Columbia's blanket certificate issued in Docket No. CP83-76-000 to replace a compressor unit at Renovo Compressor Station in Clinton County, Pennsylvania, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Columbia proposes to construct one 860 horsepower (HP) ISO rated Cat 3512 leased compressor unit and appurtenances to replace an existing 880HP ISO rated Cooper compressor unit and appurtenances located on Columbia's existing Line 1711 in Clinton County, Pennsylvania. The replacement project is necessitated by the age and condition of the existing compressor unit. Columbia estimates the lease cost associated with the replacement of the compressor unit to be approximately $976,000 for the term of the lease.

Any questions regarding the application should be directed to Fredric J. George, Lead Counsel, Columbia Gas Transmission, LLC, P.O. Box 1273, Charleston, West Virginia 22030-0146 at (304) 357-2359, fax (304) 357-3206.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E9-1764 Filed 1-27-09; 8:45 am]

BILLING CODE 6717-01-P